DEPARTMENT OF THE INTERIOR

Fish and Wildlife Service

[FWS-R2-R-2011-N186; FXRS12610200000S3-123-FF02R06000]

Attwater Prairie Chicken National Wildlife Refuge, Austin and Colorado Counties, TX; Comprehensive Conservation Plan and Environmental Assessment

AGENCY: Fish and Wildlife Service, Interior.

ACTION: Notice of availability; request for comments.

SUMMARY: We, the U.S. Fish and Wildlife Service (Service), announce the availability of a draft comprehensive conservation plan (CCP) and an environmental assessment (EA) for Attwater Prairie Chicken National Wildlife Refuge (Refuge, NWR), located approximately 60 miles west of Houston, Texas, for public review and comment. The Draft CCP/EA describes our proposal for managing the refuge for the next 15 years.

DATES: To ensure consideration, please send your written comments by January 23, 2012. We will announce upcoming public meetings in local news media.

ADDRESSES: You may submit comments or requests for copies or more information by any of the following methods. You may request hard copies or a CD-ROM of the documents. Please contact Terry Rossignol, Refuge Manager, or Monica Kimbrough, Natural Resource Planner.

Email: Monica_Kimbrough@fws.gov. Include “Attwater Prairie Chicken NWR draft CCP and EA” in the subject line of the message.

Fax: Attn: Monica Kimbrough, (505) 248-6803.

U.S. Mail: Monica Kimbrough, Natural Resource Planner, U.S. Fish and Wildlife Service, NWRS Division of Planning, P.O. Box 1306, Albuquerque, NM 87103.

In-Person Drop-off, Viewing, or Pickup: In-Person Drop-off: You may drop off comments during regular business hours (8 a.m. to 4:30 p.m.) at 500 Gold Street SW., 4th Floor, Room 4019, Albuquerque, NM 87102.

FOR FURTHER INFORMATION CONTACT: Terry Rossignol, Refuge Manager, Attwater Prairie Chicken NWR, CCP—Project, P.O. Box 519, Eagle Lake, TX 77434; phone: (979) 234-3021; fax: (979) 234-3278.

SUPPLEMENTARY INFORMATION:

Introduction

With this notice, we continue the CCP process for the Attwater Prairie Chicken NWR. We started this process through a notice in the Federal Register (73 FR 65871; November 5, 2008).

The Attwater Prairie Chicken NWR, which consists of 10,538 acres located approximately 60 miles west of Houston, Texas, is one of the largest remnants of coastal prairie habitat remaining in southeast Texas. The Refuge was officially established on July 1, 1972, to preserve and restore coastal prairie habitat for the endangered Attwater's prairie-chicken (Tympanuchus cupido attwateri).

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for wildlife observation and photography, and environmental education and interpretation. We will review and update the CCP at least every 15 years in accordance with the Refuge Administration Act.

Public Outreach

Formal scoping began with publication of a notice of intent to prepare a comprehensive conservation plan and environmental assessment (EA) in the Federal Register on November 5, 2008 (73 FR 65871). In December 2008, a letter was sent to individuals at Texas Parks and Wildlife Department (TPWD) formally inviting them to participate in the development of the CCP. We received input from TPWD in January 2009. Information sheets were sent to the public, and news releases were sent to four area newspapers and published in two of the local newspapers (Colorado County Citizen and Eagle Lake Headlight). The news release also aired on KULM Radio in Columbus. Three public open house meetings were held. Despite advertising for these open houses, turnout was poor. Additional written comments were received prior to these open house meetings. The meetings were held at three locations in the area on three separate days between 10 a.m. and 6 p.m. A variety of stakeholders contributed feedback at the open house meetings and via written comments; we used the feedback in development of the CCP.

CCP Alternatives We Are Considering

During the public scoping process with which we started work on this draft CCP, we, other governmental partners, Tribes, and the public, raised multiple issues. Our draft CCP addresses them. A full description of each alternative is in the EA. To address these issues, we developed and evaluated the following alternatives, summarized below.

Issue topic | A—No action alternative | B—Optimal habitat management and public use (proposed action) alternative | C—Maximal habitat management and public use alternative
Habitat Management Issue 1: Prairie Restoration | Combination of planting native grasses, grazing, burning, hydrologic restoration | Same as Alternative A; plus explore partnership options to produce native grass seed increase the number of restoration acres; expand monitoring for grazing and burning effects; remove infrastructure, including two manmade wetland impoundments, restoring a functional level of hydrology | Same as Alternative B; except establish seed harvest and production on the Refuge; grazing bison only.
Habitat Management Issue 2: Land/Property Acquisition | Acquire acres within approved acquisition boundary; not proactively seeking out additional land protection options | Continue to acquire land within acquisition boundary, proactively seek out land protection options and diversify those options | Same as Alternative B.
Habitat Management Issue 3: Invasive Species Control (Flora) | Treatments include a combination of chemical, mechanical, and prescribed fire | Same as Alternative A; plus conduct one-time systematic chemical invasive species control for entire refuge, unit by unit; afterward, treatment is expected to be required every 2-3 years as invasive species are re-established | Same as Alternative B.
Wildlife Management Issue 1: Attwater's Prairie-Chicken Recovery | Continue to implement Attwater's Prairie-Chicken Recovery Plan | Same as Alternative A | Same as Alternative A.
Wildlife Management Issue 2: Invasive Species Control (Fauna) | Eliminate feral hogs and nutria based on sighting and/or documented damage; treat nest sites and conduct research on impacts of red imported fire ants on insect community | Same as Alternative A; plus work with adjacent land owners to control feral hog population; remove brush and other elements of hog movement corridors; depending on results of current research of red imported fire ants, expand treated area to full extent of refuge and work with adjacent landowners to expand treatment off refuge | Same as Alternative B.
Wildlife Management Issue 3: Wildlife Food Plots (Farming Program) | Manage three food plots totaling up to 150 acres | Same as Alternative A; plus explore additional ways to provide supplemental food to Attwater's prairie-chicken, including capability to irrigate and addition of food plots when the species' populations expand | Eliminate wildlife food plots.
Visitor Services Issue 1: Wildlife Observation and Wildlife Photography | Provide wildlife observation and photography to include auto-tour route and two hiking trails | Same as Alternative A; plus realign auto-tour route; exclude cattle from public hiking trails; establish a new platform and hiking trail around Horseshoe Lake; remove Pipit Trail; increase guided van tours | Same as Alternative B.
Visitor Services Issue 2: Environmental Education | Provide environmental education as requested and as staff time permits | Develop an environmental education program and promote in local school districts | Develop an outdoor classroom through partnerships with local schools, volunteers, and friends group.
Visitor Services Issue 3: Interpretation | Host annual Attwater's Prairie-Chicken Festival; interpretive signage at headquarters and along auto-tour route | Same as Alternative A; plus add interpretive signage and kiosk to new auto-tour route and new trail; expand interpretive opportunities using recent technologies | Same as Alternative B.
Facilities Issue 1: Roads | Cooperate with county maintenance personnel for refuge entrance road, and maintain other refuge roads | Same as Alternative A; plus acquire jurisdiction and maintenance responsibilities of existing refuge entrance road and widen to two full lanes; bury powerline along entrance road; evaluate and remove services roads where necessary | Same as Alternative B.
Facilities Issue 2: Development of Administrative Complex | Administrative operations conducted out of three portable structures | Develop and approve site plan for new integrated administrative complex | Same as Alternative B.

Public Availability of Documents

In addition to any methods in ADDRESSES, you can view or obtain documents at the following locations:

• Attwater Prairie Chicken NWR Headquarters Office, 1206 APCNWR Road, Eagle Lake, TX 77434 between the hours of 8 a.m. and 4:30 p.m., Monday through Friday.

• Our Web site: http://www.fws.gov/southwest/refuges/Plan/publicinvolvement.html.

• At the following public libraries:

Library | Address | Phone No.
Eula and David Wintermann Library | 101 North Walnut Ave., Eagle Lake, TX 77434 | (979) 234-5411
Nesbitt Memorial Library | 529 Washington Street, Columbus, TX 78934 | (979) 732-3392
Virgil and Josephine Gordon Memorial Library | 917 North Circle Dr., Sealy, TX 77474 | (979) 885-7469

Submitting Comments/Issues for Comment

We consider comments substantive if they:

• Question, with reasonable basis, the accuracy of the information in the document;

• Question, with reasonable basis, the adequacy of the environmental assessment (EA);

• Present reasonable alternatives other than those presented in the EA; and/or

• Provide new or additional information relevant to the assessment.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: November 14, 2011.
Joy Nicholopoulos,
Acting Regional Director, Southwest Region.

[FR Doc. 2011-31808 Filed 12-9-11; 8:45 am]

BILLING CODE 4310-55-P